DEPARTMENT OF STATE

[Public Notice 4964]

Shipping Coordinating Committee; Notice of Meeting

The Shipping Coordinating Committee (SHC) will conduct an open meeting at 1 p.m. on Friday, February 25, 2005, in Room 2415 of the United States Coast Guard Headquarters Building, 2100 2nd Street, SW., Washington, DC 20593-0001. The primary purpose of the meeting is to prepare for the 13th Session of the International Maritime Organization (IMO) Sub-Committee on Flag State Implementation to be held at IMO Headquarters in London, England from March 7th to 11th.

The primary matters to be considered include:

—Measures to enhance maritime security;

—Responsibilities of Governments and measures to encourage flag State compliance;

—Port State Control (PSC) on seafarer's working hours;

—Comprehensive analysis of difficulties encountered in the implementation of IMO instruments;

—Regional cooperation on port State control;

—Reporting procedures on port State control detentions and analysis and evaluation of reports;

—Mandatory reports under International Convention for the Prevention of Pollution from Ships, 1973, as modified by the Protocol of 1978 (MARPOL 73/78);

—Casualty statistics and investigations;

—Review of the Code for the investigation of marine casualties and incidents;

—Development of provisions on transfer of class;

—Review of the Survey Guidelines under the Harmonized System of Survey and Certification (HSSC)—(resolution A.948(23));

—Development of guidelines for port State control under the 2004 Ballast Water Management (BWM) Convention;

—Development of survey guidelines required by regulation E-1 of the 2004 BWM Convention;

—Development of guidelines for port State control for MARPOL Annex VI;

—Review of reporting requirements for reception facilities;

—Illegal, unregulated and unreported (IUU) fishing and implementation of resolution A.925(22);

—Consideration of International Association of Classification Societies (IACS) unified interpretations.

Members of the public may attend this meeting up to the seating capacity of the room. Interested persons may seek information by writing to Commander Paul Thorne, Commandant (G-MOC), U.S. Coast Guard Headquarters, 2100 Second Street, SW., Room 1116, Washington, DC 20593-0001 or by calling (202) 267-2978.

Dated: February 4, 2005.
Clay Diamond,
Executive Secretary, Shipping Coordinating Committee, Department of State.

[FR Doc. 05-2807 Filed 2-11-05; 8:45 am]

BILLING CODE 4710-09-P